DEPARTMENT OF ENERGY

Federal Energy Regulatory Commission

Combined Notice of Filings #1

Take notice that the Commission received the following electric corporate filings:

Docket Numbers: EC17-47-000.

Applicants: Wisconsin Power and Light Company, Wisconsin Public Service Corporation, Madison Gas and Electric Company.

Description: Joint Application under Section 203 of the Federal Power Act of Wisconsin Power and Light Company, et al.

Filed Date: 12/13/16.

Accession Number: 20161213-5296.

Comments Due: 5 p.m. ET 1/3/17.

Take notice that the Commission received the following electric rate filings:

Docket Numbers: ER17-38-001.

Applicants: Puget Sound Energy, Inc.

Description: Compliance filing: Amendment to Order Nos. 827 and 828 Compliance Filing to be effective 10/14/2016.

Filed Date: 12/13/16.

Accession Number: 20161213-5243.

Comments Due: 5 p.m. ET 1/3/17.

Docket Numbers: ER17-219-000.

Applicants: PacifiCorp.

Description: Answer to Protests and Comments of PacifiCorp under ER17-219.

Filed Date: 12/14/16.

Accession Number: 20161214-5024.

Comments Due: 5 p.m. ET 1/4/17.

Docket Numbers: ER17-351-000; ER17-354-000.

Applicants: American Falls Solar, LLC, American Falls Solar II, LLC.

Description: Supplement to November 11, 2016 American Falls Solar, LLC and American Falls Solar, LLC tariff filings.

Filed Date: 12/12/16.

Accession Number: 20161212-5277.

Comments Due: 5 p.m. ET 1/3/17.

Docket Numbers: ER17-536-000.

Applicants: Southern California Edison Company.

Description: § 205(d) Rate Filing: GIA and Amended DSA Center Install EGT WDT1429 to be effective 12/14/2016.

Filed Date: 12/13/16.

Accession Number: 20161213-5251.

Comments Due: 5 p.m. ET 1/3/17.

Docket Numbers: ER17-537-000.

Applicants: Southern California Edison Company.

Description: § 205(d) Rate Filing: First Amendment to GIA and DSA and Cancellation of Letter Agreement to be effective 12/14/2016.

Filed Date: 12/13/16.

Accession Number: 20161213-5252.

Comments Due: 5 p.m. ET 1/3/17.

Docket Numbers: ER17-539-000.

Applicants: Wildwood Solar I, LLC.

Description: Baseline eTariff Filing: MBR Application and Tariff to be effective 12/15/2016.

Filed Date: 12/14/16.

Accession Number: 20161214-5070.

Comments Due: 5 p.m. ET 1/4/17.

Docket Numbers: ER17-540-000.

Applicants: Wildwood Solar II, LLC.

Description: Baseline eTariff Filing: MBR Application and Tariff to be effective 12/15/2016.

Filed Date: 12/14/16.

Accession Number: 20161214-5072.

Comments Due: 5 p.m. ET 1/4/17.

Docket Numbers: ER17-541-000.

Applicants: Wildwood Solar I, LLC.

Description: § 205(d) Rate Filing: Co-Tenancy and Shared Facilities Agreement to be effective 12/15/2016.

Filed Date: 12/14/16.

Accession Number: 20161214-5073.

Comments Due: 5 p.m. ET 1/4/17.

Docket Numbers: ER17-542-000.

Applicants: Wildwood Solar II, LLC.

Description: § 205(d) Rate Filing: Co-Tenancy and Shared Facilities Agreement to be effective 12/15/2016.

Filed Date: 12/14/16.

Accession Number: 20161214-5074.

Comments Due: 5 p.m. ET 1/4/17.

Docket Numbers: ER17-543-000.

Applicants: Duke Energy Piketon, LLC.

Description: § 205(d) Rate Filing: Duke Energy SAM NOS Filing to be effective 2/13/2017.

Filed Date: 12/14/16.

Accession Number: 20161214-5086.

Comments Due: 5 p.m. ET 1/4/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2016.
Nathaniel J. Davis, Sr.,
Deputy Secretary.

[FR Doc. 2016-30547 Filed 12-19-16; 8:45 am]

BILLING CODE 6717-01-P